SECURITIES AND EXCHANGE COMMISSION

[File No. 500-1]

Lifekeepers International, Inc.; Order of Suspension of Trading

February 7, 2000.

It appears to the Securities and Exchange Commission that there is a lack of current and accurate information concerning the securities of Lifekeepers International, Inc. (“Lifekeepers”), because of questions regarding the accuracy of statements of Lifekeepers and others concerning, among other things, Lifekeepers' financial condition, projected financial condition and the status of Lifekeeper's securities registration statements.

The Commission is of the opinion that the public interest and the protection of investors require a suspension of trading in the securities of the above-listed company.

Therefore, it is ordered, pursuant to Section 12(k) of the Securities Exchange Act of 1934, that trading in the above-listed company is suspended for the period from 9:30 a.m. EST, February 8, 2000 through 11:59 p.m. EST, on February 22, 2000.

By the Commission.
Jonathan G. Katz,
Secretary.

[FR Doc. 00-3292 Filed 2-8-00; 4:53 pm]

BILLING CODE 8010-01-M